DEPARTMENT OF HEALTH AND HUMAN SERVICES

National Institutes of Health

National Toxicology Program (NTP); NTP Liaison and Scientific Review Office; Announcement of Availability of NTP Roadmap for the 21st Century and NTP Celebration of its History

AGENCY: National Institute of Environmental Health Sciences (NIEHS); National Institutes of Health (NIH), HHS.

ACTION: Announcement of availability of a document and a symposium.

SUMMARY: The National Toxicology Program (NTP) announces availability of the document, “A National Toxicology Program for the 21st Century: A Roadmap for the Future,” and invites attendance at the symposium, “The National Toxicology Program: A Quarter Century of Toxicology for Public Health” on May 10-11, 2005, at the National Academy of Sciences in Washington, DC. This meeting will reflect on the history of the NTP and its impact on public health since its establishment in 1978 and unveil the NTP's plans and directions for the future.

DATES: The symposium will be held on May 10-11, 2005.

ADDRESSES: The symposium will be held at the National Academy of Sciences, 2100 C Street, NW., Washington, DC. Registration information and other details for the symposium are available on the NTP Web site (http://ntp.niehs.nih.gov select “NTP 25 Years”) or by contacting Nan Cushing (see FOR FURTHER INFORMATION CONTACT below). The NTP Roadmap document is available electronically on the NTP Web site, (select “NTP Vision & Roadmap”) or in printed text from the NTP Liaison and Scientific Review Office, P.O. Box 12233, MD A3-01, 111 TW Alexander Drive, Research Triangle Park, NC 27709 (mail); (919) 541-0530 (telephone); (919) 541-0530 (fax).

FOR FURTHER INFORMATION CONTACT: Nan Cushing, NTP Liaison and Scientific Review Office, 919-541-0530 (telephone), cushing1@niehs.nih.gov (e-mail).

SUPPLEMENTARY INFORMATION:

Background

The NTP was established in 1978 to coordinate toxicological testing programs within the Department of Health and Human Services, develop and validate improved testing methods, develop approaches and generate data to strengthen scientific knowledge about potentially hazardous substances, and communicate with stakeholders. In its more than 25 years of existence, NTP has become a world leader in providing scientific information that improves our nation's ability to evaluate potential human health effects from chemical and physical exposures. The NTP maintains a number of complex, interrelated research and testing programs that provide unique and critical information needed by health regulatory and research agencies to protect public health. The NTP is hosting a symposium on May 10-11, 2005, to celebrate its leadership and contributions in protecting public health and present the NTP's roadmap for the 21st century.

NTP Roadmap for the Future

In August 2003, the NTP defined its vision for the 21st century and undertook a yearlong process to refine that vision and develop a roadmap for its implementation. The NTP Vision is to support the evolution of toxicology from a predominately observational science at the level of disease-specific models to a predominately predictive science focused upon a broad inclusion of target-specific, mechanism-based, biological observations. The NTP Roadmap described in the document, “A National Toxicology Program for the 21st Century: A Roadmap for the Future,” was developed with input from numerous groups including the NTP's Federal partners, its advisory committees, and the public. The NTP Roadmap identifies the challenges and opportunities confronting the program today and discusses the directions envisioned for the NTP in the 21st century in three main areas: (1) Refining traditional toxicology assays, (2) developing rapid, mechanism-based predictive screens for environmentally induced diseases, and (3) improving the overall utility of NTP products for public health decisions. Once implemented, it will strategically position the NTP at the forefront for providing scientific data and the interpretation of those data for public health decisionmaking. Presentation of the NTP's vision and roadmap will be a focus at the May symposium. The document is available electronically in PDF on the NTP Web site (http://ntp.niehs.nih.gov select “NTP Vision and Roadmap”) or in printed text by contacting the NTP Liaison and Scientific Review Office (see FOR FURTHER INFORMATION CONTACT above).

Preliminary Agenda

The symposium begins each day at 9 a.m. and adjourns at 4:30 p.m. on May 10 and noon on May 11. The preliminary agenda topics are identified below.

May 10, 2005

• Welcome

• Implications of Health Policy and Health Legislation: Why Is the NTP Needed?

• Public Health in the 21st Century: NTP's Contributions and Challenges

• Invited Remarks

• NTP Goals: Their Importance to Public Health

—Coordination of Toxicology Testing

—Strengthening the Science Base in Toxicology

—Evolution of the NTP in Other Areas

—Partnerships and Communication

• Public Health Impact of the NTP

—Role of Safety Information on Agents with Environmental Exposure in Guiding Public Health Decisions

—Role of the Report on Carcinogens and the Center for the Evaluation of Risks to Human Reproduction in Guiding Public Health Decisions

May 11, 2005

• Welcome

• Toxicology's Role in Public Health Decisionmaking in the 21st Century

—Molecular Biology in Public Health Decisions

—Functional Genomics in Public Health Decisions

—Systems Biology in Public Health Decisions

• NTP in the 21st Century

• The Future of Environmental Health Research

• Closing Remarks

Registration

The symposium is open to the public with attendance limited only by the available space. Information about how to register to attend is available on the NTP Web site (http://ntp.niehs.nih.gov select “NTP 25 Years”) or by contacting Ms. Cushing (see FOR FURTHER INFORMATION CONTACT above). Persons needing special assistance in order to attend are asked to contact Ms. Cushing at least 7 business days prior to the meeting.

Dated: March 2, 2005.
Samuel H. Wilson,
Deputy Director, National Institute of Environmental Health Sciences.

[FR Doc. 05-4676 Filed 3-9-05; 8:45 am]

BILLING CODE 4140-01-P